DEPARTMENT OF LABOR

Employment and Training Administration

[TA-W-74,919]

RG Steel Sparrows Point LLC, Formerly Known as Severstal Sparrows Point LLC, a Subsidiary of RG Steel LLC, Including All On-Site Leased Workers, Sparrows Point, MD; Amended Certification Regarding Eligibility To Apply for Worker Adjustment Assistance

In accordance with Section 223 of the Trade Act of 1974, as amended (“Act”), 19 U.S.C. 2273, the Department of Labor (Department) issued a Certification of Eligibility to Apply for Worker Adjustment Assistance on February 9, 2011, applicable to workers and former workers of Severstal International, Sparrows Point, Maryland. The workers are engaged in employment related to the production of rolled steel. On June 22, 2012 and July 18, 2012, the Department issued notices of Amended Certification applicable to the subject firm.

Subsequent to the issuance of the amendments, the Department received multiple requests to include additional on-site leased worker groups to the certification applicable to workers of the subject firm.

The intent of the Department's certification is to include all workers of the subject firm, including all on-site leased workers, who were adversely affected by increased company imports of flat rolled steel.

The amended notice applicable to TA-W-74,919 is hereby issued as follows:

All workers of RG Steel Sparrows Point LLC, formerly known as Severstal Sparrows Point LLC, a subsidiary of RG Steel LLC, including all on-site leased workers, Sparrows Point, Maryland, who became totally or partially separated from who became totally or partially separated from employment on or after November 22, 2009 through February 9, 2013, and all workers in the group threatened with total or partial separation from employment on February 9, 2011 through February 9, 2013, are eligible to apply for adjustment assistance under Chapter 2 of Title II of the Trade Act of 1974, as amended.

Signed at Washington, DC, this 30th day of July, 2012.
Del Min Amy Chen,
Certifying Officer, Office of Trade Adjustment Assistance.

[FR Doc. 2012-19461 Filed 8-8-12; 8:45 am]

BILLING CODE 4510-FN-P